DEPARTMENT OF LABOR

Employment and Training Administration

[TA-W-55,511]

Cherry Electrical Products, a Division of Cherry Corporation, Including Leased Workers From QPS Staffing, Pleasant Prairie, WI; Dismissal of Application for Reconsideration

Pursuant to 29 CFR 90.18(C) an application for administrative reconsideration was filed with the Director of the Division of Trade Adjustment Assistance for workers at Cherry Electrical Products, a division of Cherry Corporation, including leased workers from QPS Staffing, Pleasant Prairie, Wisconsin. The application contained no new substantial information which would bear importantly on the Department's determination. Therefore, dismissal of the application was issued.

TA-W-55,511; Cherry Electrical Products, a division of Cherry Corporation, including Leased workers from QPS Staffing, Pleasant Prairie, Wisconsin (November 24, 2004)

Signed at Washington, DC this 29th day of November 2004.
Timothy Sullivan,
Director, Division of Trade Adjustment Assistance.

[FR Doc. E4-3525 Filed 12-6-04; 8:45 am]

BILLING CODE 4510-30-P